DEPARTMENT OF TRANSPORTATION

Federal Aviation Administration

Notice of Intent To Rule on Request To Release Airport Property at Walnut Ridge Regional Airport, Walnut Ridge, AR

AGENCY: Federal Aviation Administration (FAA) DOT.

ACTION: Notice of Request To Release Airport Property.

SUMMARY: The FAA proposes to rule and invites public comment on the release of land at Walnut Ridge Regional Airport under the provisions of Title 49, U.S.C. Section 47153(c).

DATES: Comments must be received on or before September 25, 2009.

ADDRESSES: Comments on this application may be mailed or delivered to the FAA at the following address: Mr. Edward N. Agnew, Manager, Federal Aviation Administration, Southwest Region, Airports Division, Arkansas/Oklahoma Airports Development Office, ASW-630, 2601 Meacham Boulevard, Fort Worth, Texas 76137.

In addition, one copy of any comments submitted to the FAA must be mailed or delivered to The Honorable Michelle Rogers, Mayor of Walnut Ridge, at the following address: City of Walnut Ridge, 300 West Main Street, Walnut Ridge, AR 72476.

FOR FURTHER INFORMATION CONTACT: Mr. Paul Burns, Federal Aviation Administration, Airports Development Office, ASW-630, 2601 Meacham Boulevard, Fort Worth, Texas 76137.

The request to release property may be reviewed in person at this same location.

SUPPLEMENTARY INFORMATION: The FAA invites public comment on the request to release property at the Walnut Ridge Regional Airport.

On August 10, 2009, the FAA determined that the request to release property at Walnut Ridge Regional Airport submitted by the City of Walnut Ridge met the procedural requirements of the Federal Aviation Regulations, Part 155. The FAA may approve the request, in whole or in part, no later than September 25, 2009.

The following is a brief overview of the request:The City of Walnut Ridge requests the release of 17.6 acres of airport property. The land proposed for release will be used by Williams Baptist College to expand its existing college campus adjacent to the Walnut Ridge Regional Airport. The fair market value of this land is $53,000.00. In exchange for this 17.6 acres, the Airport will receive from Williams Baptist College a 20.0-acre tract valued at $40,000.00 plus a cash payment in the amount of $13,000.00. The City will use this $13,000.00 (together with $30,000.00 from another airport land release, resulting in a total of $43,000.00) on a 2010 capital improvement project to construct a Maintenance Hangar at Walnut Ridge Regional Airport.

Any person may inspect the request in person at the FAA office listed above under FOR FURTHER INFORMATION CONTACT.

In addition, any person may, upon request, inspect the application, notice and other documents germane to the application in person at the Walnut Ridge Regional Airport.

Issued in Fort Worth, Texas, on August 14, 2009.
Kelvin L. Solco,
Manager, Airports Division.

[FR Doc. E9-20317 Filed 8-25-09; 8:45 am]

BILLING CODE 4910-13-M